ENVIRONMENTAL PROTECTION AGENCY

[FRL-11834-01-OA]

Public Meetings of the Science Advisory Board Radionuclide Cancer Risk Coefficients Review Panel

AGENCY: Environmental Protection Agency (EPA).

ACTION: Notice.

SUMMARY: The Environmental Protection Agency (EPA) Science Advisory Board (SAB) Staff Office is announcing two public meetings of the Science Advisory Board Radionuclide Cancer Risk Coefficients Review Panel. The purpose of the meetings is to receive a briefing from EPA, review and discuss charge questions, listen to public comments and peer review the EPA's draft Cancer Risk Coefficients for Environmental Exposure to Radionuclides (Federal Guidance Report No. 16).

DATES: Public meeting[s]: The Science Advisory Board Radionuclide Cancer Risk Coefficients Review Panel will meet on the following dates.

1. April 25, 2024, from 1 p.m. to 5 p.m.

2. May 29, 2024, from 9 a.m. to 5 p.m.

3. May 30, 2024, from 9 a.m. to 5 p.m.

4. May 31, 2024, from 9 a.m. to 3 p.m.

Comments: See the section titled “Procedures for providing public input” under SUPPLEMENTARY INFORMATION for instructions and deadlines.

ADDRESSES: The April 25, 2024, meeting will be conducted virtually. Please refer to the SAB website at https://sab.epa.gov for information on how to attend the meeting. The May 29-31, 2024 meetings will be conducted in person and virtually. Please refer to the SAB website at https://sab.epa.gov for information on how to attend the meeting.

FOR FURTHER INFORMATION CONTACT: Any member of the public who wants further information concerning this document may contact Dr. Diana Wong, Designated Federal Officer (DFO), via telephone at (202) 564-2049, or email at wong.diana-m@epa.gov. General information about the SAB, as well as any updates concerning the meetings announced in this document, can be found on the SAB website at https://sab.epa.gov.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C. 10. The SAB will comply with the provisions of FACA and all appropriate SAB Staff Office procedural policies. Pursuant to FACA and EPA policy, notice is hereby given that the Science Advisory Board Radionuclide Cancer Risk Coefficients Review Panel will hold two public meetings to review and discuss charge questions, listen to agency presentations, listen to public comments and peer review the EPA's draft Cancer Risk Coefficients for Environmental Exposure to Radionuclides (Federal Guidance Report No. 16).

Availability of meeting materials: All meeting materials, including the agenda, will be available on the SAB web page at https://sab.epa.gov.

Procedures for providing public input: Public comment for consideration by EPA's Federal advisory committees and panels has a different purpose from public comment provided to EPA program offices. Therefore, the process for submitting comments to a Federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comments should follow the instruction below to submit comments.

Oral statements: In general, individuals or groups requesting an oral presentation at a meeting conducted virtually will be limited to three minutes, and individuals or groups requesting an oral presentation at an in-person meeting will be limited to five minutes. Each person making an oral statement should consider providing written comments as well as their oral statement so that the points presented orally can be expanded upon in writing. Persons interested in providing oral statements should contact the DFO, in writing (preferably via email) at the contact information noted under FOR FURTHER INFORMATION CONTACT, by April 18, 2024, for the April 25, 2024 meeting and by May 22, 2024, for the May 29-31, 2024 meeting, to be placed on the list of registered speakers.

Written statements: Written statements will be accepted throughout the advisory process; however, for timely consideration by SAB members, statements should be submitted to the DFO by April 18, 2024, for consideration at the April 25, 2024 meeting and May 22, 2024, for consideration at the May 29-31, 2024 meeting. Written statements should be supplied to the DFO at the contact information above via email. Submitters are requested to provide an unsigned version of each document because the SAB Staff Office does not publish documents with signatures on its websites. Members of the public should be aware that their personal contact information if included in any written comments, may be posted to the SAB website. Copyrighted material will not be posted without the explicit permission of the copyright holder.

Accessibility: For information on access or services for individuals with disabilities, please contact the DFO, at the contact information noted above, preferably at least ten days before the meetings, to give the EPA as much time as possible to process your request.

V Khanna Johnston,
Deputy Director, Science Advisory Board Staff Office.

[FR Doc. 2024-07253 Filed 4-4-24; 8:45 am]

BILLING CODE 6560-50-P